FEDERAL COMMUNICATIONS COMMISSION

[DA 04-1978]

The Consumer & Governmental Affairs Bureau Reminds Telecommunications Equipment Manufacturers and Telecommunications Service Providers of Obligation To Designate Agent for Complaints Received by the FCC

AGENCY: Federal Communications Commission.

ACTION: Notice.

SUMMARY: In this document, the Consumer & Governmental Affairs Bureau reminds telecommunications equipment manufacturers and telecommunications service providers subject to Section 255 of the Communications Act of 1934, of their obligation to designate an agent for service of informal and formal complaints received by the Federal Communications Commissions.

DATES: Effective June 30, 2004.

ADDRESSES: Federal Communications Commission, 445 12th Street, SW., Washington, DC 20554.

FOR FURTHER INFORMATION CONTACT: Arlene Alexander, (202) 418-0581 (voice), (202) 418-0183 (TTY), or e-mail Arlene.Alexander@fcc.gov.

SUPPLEMENTARY INFORMATION: This is a summary of the Commission's Public Notice, DA 04-1978 released June 30, 2004.

This designation or updated designation information may be sent to the Commission via e-mail to Section255_POC@fcc.gov or you can mail 1 copy only to: Federal Communications Commission, 445 12th Street, SW., Washington, DC 20554 Attn: Arlene Alexander, Room 6-A629.

Contact information for section 255 telecommunications equipment manufacturers is posted on the Consumer & Governmental Affairs Bureau's Web site at http://www.fcc.gov/cgb/dro/section255_manu.html; contact information for telecommunications service providers is posted at http://www.fcc.gov/cgb/dro/service_providers.html; and contact information for affected colleges and universities is posted at http://www.fcc.gov/cgb/dro/section255_colleges.html.

The Commission asks that you check this information for accuracy. If the information is not accurate, current, or non-existent, please e-mail the correct information to Section255_POC@fcc.gov.

The full text of this document and filings will be available for public inspection and copying during regular business hours at the FCC Reference Information Center, Portals II, 445 12th Street, SW., Room CY-A257, Washington, DC 20554. These documents may be purchased from the Commission's duplicating contractor, Best Copy and Printing, Inc., Portals II, 445 12th Street, SW., Room CY-B402, Washington, DC 20554. Customers may contact BCPI, Inc. at their Web site: www.bcpiweb.com or call 1-800-378-3160. Filings may also be viewed on the Consumer & Governmental Affairs Bureau, Disability Rights Office homepage at http://www.fcc.gov/cgb/dro.

To request materials in accessible formats for people with disabilities (Braille, large print, electronic files, audio format), send an e-mail to fcc504@fcc.gov or call the Consumer & Governmental Affairs Bureau at (202) 418-0530 (voice), (202) 418-0432 (TTY). This Public Notice can also be downloaded in Word and Portable Document Formats (PDF) at http://www.fcc.gov/cgb/dro/section255.html.

Synopsis: On September 29, 1999, the Commission released a Report and Order and Further Notice of Inquiry (Report and Order), See Implementation of Section 255 and 251(a)(2) of the Communications Act of 1934, as enacted by the Telecommunications Act of 1996, Report and Order and Further Notice of Inquiry, WT Docket No. 96-198, FCC 99-181, 16 FCC Rcd 6417 (September 29, 1999) (Report and Order), that adopted regulations implementing Section 255, which requires telecommunications equipment manufacturers and service providers to ensure that their equipment and services are accessible to persons with disabilities, to the extent that it is readily achievable to do so. The regulations require, in part, that equipment manufacturers and service providers covered by Section 255 designate an agent for service of informal and formal complaints received by the Commission. See 47 CFR 6.18 and 7.18. The designation shall include a name or department designation, business address, telephone number, and, if available, TTY number, facsimile number, and Internet e-mail address.

Federal Communications Commission.
Jay Keithley,
Deputy Chief, Consumer & Governmental Affairs Bureau.

[FR Doc. 04-16607 Filed 7-20-04; 8:45 am]

BILLING CODE 6712-01-P